GULF COAST ECOSYSTEM RESTORATION COUNCIL

[Docket No.: 108002015-1111-07]

Notice of Standard Terms and Conditions for Council Grants

AGENCY: Gulf Coast Ecosystem Restoration Council.

ACTION: Notice.

SUMMARY: The Gulf Coast Ecosystem Restoration Council (Council) has established Financial Assistance Standard Terms and Conditions (STCs) that will apply to all grants awarded by the Council.

DATES: The STCs are effective on August 31, 2015.

FOR FURTHER INFORMATION CONTACT: Kristin Smith, Council staff, telephone number: 504-444-3558.

SUPPLEMENTARY INFORMATION: The Council is authorized to award grants pursuant to the Council-Selected Restoration and Spill Impact Components of the Resources and Ecosystems Sustainability, Tourist Opportunities, and Revived Economies of the Gulf Coast States Act of 2012 (RESTORE Act), 33 U.S.C. 1321(t)(2) and 1321(t)(3). The Council has established STCs that will apply to and be incorporated into all grants awarded by the Council under the RESTORE Act. The electronic version of the STCs can be viewed and downloaded at www.restorethegulf.gov/resources/foia-library-council-documents.

Will D. Spoon,
Program Analyst, Gulf Coast Ecosystem Restoration Council.

[FR Doc. 2015-21417 Filed 8-28-15; 8:45 am]

BILLING CODE P